DEPARTMENT OF THE INTERIOR

Bureau of Land Management

[CO-03-840-1610-241A]

Canyons of the Ancients National Monument Advisory Committee Meeting

AGENCY: Bureau of Land Management, Interior.

ACTION: Notice of meeting.

SUMMARY: In accordance with the Federal Land Policy and Management Act (FLPMA) and the Federal Advisory Committee Act of 1972 (FACA), the U.S. Department of the Interior, Bureau of Land Management (BLM) Canyons of the Ancients National Monument (Monument) Advisory Committee (Committee), will meet as directed below.

DATES: Meetings will be held July 6th, August 10th and September 14th at the Anasazi Heritage Center in Dolores, Colorado at 9 a.m. The public comment period for each meeting will begin at approximately 2:30 p.m. and the meetings will adjourn at approximately 3:30 p.m.

FOR FURTHER INFORMATION CONTACT: LouAnn Jacobson, Monument Manager or Stephen Kandell, Monument Planner, Anasazi Heritage Center, 27501 Hwy 184, Dolores, Colorado 81323; Telephone (970) 882-5600.

SUPPLEMENTARY INFORMATION: The eleven member committee provides counsel and advice to the Secretary of the Interior, through the BLM, concerning development and implementation of a management plan developed in accordance with FLMPA, for public lands within the Monument. At these meetings, topics we plan to discuss include planning issues and management concerns in the field, planning alternatives, partnerships, science and other issues as appropriate.

All meetings will be open to the public and will include a time set aside for public comment. Interested persons may make oral statements at the meetings or submit written statements at any meeting. Per-person time limits for oral statements may be set to allow all interested persons an opportunity to speak.

Summary minutes of all Committee meetings will be maintained at the Anasazi Heritage Center in Dolores, Colorado. They are available for public inspection and reproduction during regular business hours within thirty (30) days of the meeting. In addition, minutes and other information concerning the Committee can be obtained from the Monument planning Web site at: http://www.blm.gov/rmp/canm which will be updated following each Committee meeting.

Dated: June 8, 2004.
LouAnn Jacobson,
Monument Manager, Canyons of the Ancients National Monument.

[FR Doc. 04-13572 Filed 6-15-04; 8:45 am]

BILLING CODE 4310-AG-P